DEPARTMENT OF THE TREASURY

Alcohol and Tobacco Tax and Trade Bureau

27 CFR Part 9

[Docket No. TTB-2010-0003; Notice No. 107; Re: Notice No.105]

RIN 1513-AB41

Proposed Establishment of the Pine Mountain-Mayacmas Viticultural Area; Comment Period Extension

AGENCY: Alcohol and Tobacco Tax and Trade Bureau, Treasury.

ACTION: Notice of proposed rulemaking; extension of comment period.

SUMMARY: In response to a request from a viticulture industry group, we are extending the comment period for Notice No. 105, Proposed Establishment of the Pine Mountain-Mayacmas Viticultural Area, a notice of proposed rulemaking published in the Federal Register on May 27, 2010, for an additional 45 days.

DATES: Written comments on Notice No. 105 are now due or before September 9, 2010.

ADDRESSES: You may send comments on this notice to one of the following addresses:

• http://www.regulations.gov: Use the comment form for this notice as posted within Docket No. TTB-2010-0003 on “Regulations.gov,” the Federal e-rulemaking portal, to submit comments via the Internet;

• Mail: Director, Regulations and Rulings Division, Alcohol and Tobacco Tax and Trade Bureau, P.O. Box 14412, Washington, DC 20044-4412.

• Hand Delivery/Courier in Lieu of Mail: Alcohol and Tobacco Tax and Trade Bureau, 1310 G Street, NW., Suite 200-E, Washington, DC 20005.

See the “Public Participation” section of this notice for specific instructions and requirements for submitting comments, and for information on how to request a public hearing.

You may view copies of this notice, the original notice of proposed rulemaking (Notice No. 105), selected supporting materials, and any comments we receive about the proposed establishment of the Pine Mountain-Mayacmas viticultural area within Docket No. TTB-2010-0003 at http://www.regulations.gov. A direct link to this docket is posted on the TTB Web site at http://www.ttb.gov/wine/wine-rulemaking.shtml under Notice No. 105. You also may view copies of this notice, all supporting materials, and any comments we receive about this proposal by appointment at the TTB Information Resource Center, 1310 G Street, NW., Washington, DC 20220. Please call 202-453-2270 to make an appointment.

FOR FURTHER INFORMATION CONTACT: N.A. Sutton, Regulations and Rulings Division, Alcohol and Tobacco Tax and Trade Bureau, 925 Lakeville St., No. 158, Petaluma, CA 94952; phone 415-271-1254.

SUPPLEMENTARY INFORMATION: TTB received a petition from Sara Schorske of Compliance Service of American, prepared and filed on her own behalf and that of local wine industry members to establish the 4,600-acre Pine Mountain-Mayacmas viticultural area in northern California. About two-thirds of the proposed viticultural area lies in the extreme southern portion of Mendocino County, with the remaining one-third located in the extreme northern portion of Sonoma County.

The proposed Pine Mountain-Mayacmas viticultural area is totally within the multicounty North Coast viticultural area (27 CFR 9.30) and it overlaps the northernmost portions of the established Alexander Valley viticultural area (27 CFR 9.53) and the Northern Sonoma viticultural area (27 CFR 9.70).

In Notice No. 105 published in the Federal Register (75 FR 29682) on Thursday, May 27, 2010, we described the petitioners' rationale for the proposed establishment of the Pine Mountain-Mayacmas viticultural area and requested comments on the proposal on or before July 26, 2010.

On July 16, 2010, we received a letter request from attorney Richard Mendelson on behalf of the Napa Valley Vintners (NVV), a wine industry trade association. The request explained that due to the periodic scheduling of the NVV's committee and board of directors meetings, the group would be unable to meet the original July 26, 2010, comment deadline for Notice No. 105. The letter therefore requested a 45-day extension to the comment period for Notice No. 105 to allow the NVV to complete and thoroughly vet its comments on the proposed viticultural area.

In response to this request we extend the comment period for Notice No. 105 an additional 45 days. Therefore, the comments on Notice No. 105 are now due on or before September 9, 2010.

Drafting Information

Michael Hoover of the Regulations and Rulings Division drafted this notice.

Signed: July 20, 2010.
John J. Manfreda,
Administrator.

[FR Doc. 2010-18177 Filed 7-23-10; 8:45 am]

BILLING CODE 4810-31-P